DEPARTMENT OF HEALTH AND HUMAN SERVICES

Centers for Disease Control and Prevention

Disease, Disability, and Injury Prevention and Control Special Emphasis Panel (SEP): Meeting

In accordance with Section 10(a)(2) of the Federal Advisory Committee Act (Pub. L. 92-463), the Centers for Disease Control and Prevention (CDC) announces the following meeting:

Name: Disease, Disability, and Injury Prevention and Control Special Emphasis Panel (SEP): Antimalarial Drug Resistance and Prevention of Malaria During Pregnancy CI05-061, Linkage of International Collaboration and Research Programs for Prevention and Control of Malaria, CI-05-062 and Comparisons of Community with Facility Management of Malaria and Pneumonia in Rural Tanzania, CI05-064.

Times and Dates: 1 p.m.-3:30 p.m., June 15, 2005 (Closed).

Place: Teleconference.

Status: Portions of the meeting will be closed to the public in accordance with provisions set forth in Section 552b(c) (4) and (6), Title 5 U.S.C., and the Determination of the Director, Management Analysis and Services Office, CDC, pursuant to Pub. L. 92-463.

Matters To Be Discussed: The meeting will include the review, discussion, and evaluation of applications received in response to: Preventing Maternal and Neonatal Bacterial Infections in Developing Settings with a High Prevalence of HIV: Antimalarial Drug Resistance and Prevention of Malaria During Pregnancy CI05-061, Linkage of International Collaboration and Research Programs for Prevention and Control of Malaria, CI-05-062 and Comparisons of Community with Facility Management of Malaria and Pneumonia in Rural Tanzania, CI05-064.

FOR FURTHER INFORMATION CONTACT: Trudy Messmer, Ph.D., Scientific Review Administrator, National Center for Infectious Diseases, CDC, 1600 Clifton Road NE., Mailstop C19, Atlanta, GA 30333, Telephone (404) 639-3770.

The Director, Management Analysis and Services Office, has been delegated the authority to sign Federal Register notices pertaining to announcements of meetings and other committee management activities, for both CDC and the Agency for Toxic Substances and Disease Registry.

Dated: May 12, 2005.
Alvin Hall,
Director, Management Analysis and Services Office, Centers for Disease Control and Prevention.

[FR Doc. 05-9987 Filed 5-18-05; 8:45 am]

BILLING CODE 4163-18-P